DEPARTMENT OF COMMERCE

Foreign-Trade Zones Board

[S-164-2017]

Foreign-Trade Zone 295—Central Pennsylvania; Application for Subzone; North American Höganäs Company; Johnstown, Hollsopple and St, Mary's, Pennsylvania

An application has been submitted to the Foreign-Trade Zones (FTZ) Board by the Pennsylvania Foreign Trade Zone Corporation, grantee of FTZ 295, requesting subzone status for the facilities of North American Höganäs Company (Höganäs), located in Johnstown, Hollsopple and St. Mary's, Pennsylvania. The application was submitted pursuant to the provisions of the Foreign-Trade Zones Act, as amended (19 U.S.C. 81a-81u), and the regulations of the FTZ Board (15 CFR part 400). It was formally docketed on October 19, 2017.

The proposed subzone would consist of the following sites: Site 1 (9.38 acres) 101 Bridge Street, Johnstown, Cambria County; Site 2 (98.98 acres) 111 Höganäs Way, Hollsopple, Somerset County; and, Site 3 (3.42 acres) 210 Ceramic Street, St. Mary's, Elk County. No authorization for production activity has been requested at this time. The proposed subzone would be subject to the existing activation limit of FTZ 295.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is December 5, 2017. Rebuttal comments in response to material submitted during the foregoing period may be submitted during the subsequent 15-day period to December 20, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Elizabeth Whiteman at Elizabeth.Whiteman@trade.gov or (202) 482-0473.

Dated: October 20, 2017.
Andrew McGilvray,
Executive Secretary.

[FR Doc. 2017-23309 Filed 10-25-17; 8:45 am]

BILLING CODE 3510-DS-P